DEPARTMENT OF HEALTH AND HUMAN SERVICES

Centers for Disease Control and Prevention

Disease, Disability, and Injury Prevention and Control; Special Emphasis Panel (SEP): Seroconverter Specimen Panels for Validation of Incidence Assays, Contract Solicitation 2004-N-01329

In accordance with section 10(a)(2) of the Federal Advisory; Committee Act (Pub. L. 92-463), the Centers for Disease; Control and Prevention (CDC) announces the following meeting:

Name: Disease, Disability, and Injury Prevention and Control Special Emphasis Panel (SEP): Seroconverter Specimen Panels for Validation of Incidence Assays, Contract Solicitation 2004-N-01329.

Times and Dates: 1 p.m.-1:45 p.m., July 23, 2004 (Open).

1:45 p.m.-3 p.m., July 23, 2004 (Closed).

Place: Teleconference number 1-888-396-9924, pass code 21864.

Status: Portions of the meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to Contract Solicitation 2004-N-01329.

Contact Person for More Information: Noreen L. Qualls, DrPH, Scientific Review Administrator, CDC, National Center for HIV, STD, and TB Prevention, Office of the Associate Director of Science, 1600 Clifton Road, NE., MS-E07, Atlanta, GA 30333, Telephone (404) 639-8006.

The Director, Management Analysis and Services Office, has been delegated the authority to sign Federal Register notices pertaining to announcements of meetings and other committee management activities, for both CDC and the Agency for Toxic Substances and Disease Registry.

Dated: June 29, 2004.
Alvin Hall,
Director, Management Analysis and Services Office, Centers for Disease Control and Prevention (CDC).

[FR Doc. 04-15504 Filed 7-7-04; 8:45 am]

BILLING CODE 4163-18-P